SOCIAL SECURITY ADMINISTRATION

The Ticket to Work and Work Incentives Advisory Panel Meeting

AGENCY: Social Security Administration (SSA).

ACTION: Notice of meeting.

DATES: July 22, 2004, 10 a.m.—5 p.m. July 23, 2004, 9 a.m.—4 p.m.

ADDRESSES: Renaissance Washington, DC Hotel, 999 9th Street NW., Washington, DC 20001, Phone: (202) 898-9000.

SUPPLEMENTARY INFORMATION: Type of meeting: This is a meeting open to the public. The public is invited to participate by coming to the address listed above. Public comment will not be taken during this meeting. The public may submit comments in writing on the implementation of the Ticket to Work and Work Incentives Improvement Act (TWWIIA) of 1999 at any time.

Purpose: In accordance with section 10(a) (2) of the Federal Advisory Committee Act, SSA announces a meeting of the Ticket to Work and Work Incentives Advisory Panel (the Panel). Section 101(f) of Pub. L. 106-170 establishes the Panel to advise the President, the Congress and the Commissioner of Social Security on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the meeting. The Panel will use the meeting time to receive briefings and conduct full Panel deliberations on the implementation of TWWIIA.

The Panel will meet in person commencing on Thursday, July 22, 2004 from 10 a.m. to 5 p.m.; Friday, July 23, 2004 from 9 a.m. to 4 p.m.

Agenda: The Panel will hold a meeting. Briefings and full Panel deliberations and other Panel business will be held Thursday and Friday, July 22, and 23, 2004.

The full agenda for the meeting will be posted on the Internet at http://www.ssa.gov/work/panel approximately one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 400 Virginia Avenue, SW., Suite 700, Washington, DC, 20024.

• Telephone contact with Monique Fisher at (202) 358-6435.

• Fax at (202) 358-6440.

• E-mail to TWWIIAPanel@ssa.gov.

Dated: June 3, 2004.
Carol Brenner,
Designated Federal Official.

[FR Doc. 04-13022 Filed 6-8-04; 8:45 am]

BILLING CODE 4191-02-P